DEPARTMENT OF AGRICULTURE

Food and Nutrition Service

Agency Information Collection Activities: National Study of State Adoption and Use of Pandemic-Electronic Benefit Transfer During Covid-19

AGENCY: Food and Nutrition Service (FNS), USDA.

ACTION: Notice.

SUMMARY: In accordance with the Paperwork Reduction Act of 1995, this notice invites the general public and other public agencies to comment on this proposed information collection. This collection is a new collection to collect information on the operational aspects of the Pandemic Electronic Benefit Transfer program (P-EBT).

DATES: Written comments must be received on or before October 27, 2020.

ADDRESSES: Comments may be sent to: Edward Harper, Food and Nutrition Service, U.S. Department of Agriculture, 1320 Braddock Place, Alexandria, VA 22314. Comments may also be submitted via fax to the attention of Edward Harper at 703-305-2340 or via email to edward.harper@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Edward Harper at 703-305-2340.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: National Study of State Adoption and Use of Pandemic-Electronic Benefit Transfer during Covid-19.

Form Number: Not applicable.

OMB Number: Not Yet Assigned.

Expiration Date: Not Yet Assigned.

Type of Request: New collection.

Abstract: The Families First Coronavirus Response Act of 2020 provides the Secretary of Agriculture authority to approve State agency plans for temporary emergency benefits under the Food and Nutrition Act of 2008. Children who would receive free or reduced-price meals under the Richard B. Russell National School Lunch Act, if not for the school closures, are eligible under this provision.

This collection seeks to gather information on operational issues and challenges encountered by Child Nutrition (CN) and Supplemental Nutrition Assistance Program (SNAP) State agencies while implementing the PEBT program. The study will collect information on State systems, including student information and direct certification systems and the records contained in those systems, school meal application data, information on the efficacy of the PEBT program, costs of operating the program, and organizational and operational challenges. This study will also seek to collect administrative data on per recipient benefits at the school district level.

Affected Public: Respondent groups include: (1) All CN State agencies administering the NSLP and SBP; (2) All SNAP State agencies administering the SNAP program.

Estimated Number of Respondents: The total estimated number of respondents is 150. This includes 75 CN State agency respondents and 75 SNAP State agency respondents. In some States, more than one State agency administers the school meal programs. There are 59 State agencies that administer the school meal programs. The additional respondents included in the estimate account for time spent consulting with staff actively involved in the P-EBT operations.

Estimated Number of Responses per Respondent: The CN and SNAP State agencies will be asked to complete one survey and provide requested administrative data for the period P-EBT was operational. There will be one response per respondent.

Estimated Total Annual Responses: 150 × 1 = 150.

Estimated Time per Response: The response time is estimated to be about 3 hours for each CN and SNAP State agency to complete.

Estimated Total Annual Burden on Respondents: 450 hours. See the table below for estimated total annual burden for each State agency director.

Respondent | Estimated number respondent | Responses annually per respondent | Total annual responses | Estimated avg. number of hours per response | Estimated total hours
Reporting Burden
Child Nutrition State agencies | 75 | 1 | 75.00 | 3 | 225
SNAP State agencies | 75 | 1 | 75.00 | 3 | 225

Pamilyn Miller,
Administrator, Food and Nutrition Service.

[FR Doc. 2020-18952 Filed 8-27-20; 8:45 am]

BILLING CODE 3410-30-P